DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2010 Coverage Followup Telephone Operation.

Form Number(s): None.

OMB Control Number: 0607-0946.

Type of Request: Reinstatement, with change, of an expired collection.

Burden Hours: 1,335,000.

Number of Respondents: 8,010,000.

Average Hours per Response: Ten minutes.

Needs and Uses: The 2010 Coverage Followup (CFU) telephone operation will serve to clarify initial enumeration responses in an effort to improve within-household counts. Historically, the decennial census has been affected by undercounts that affect certain demographic groups (e.g. babies and minorities), and people in certain living situations, such as renters who move often, and people whose residences are complicated or ambiguous. In Census 2000, we learned that the census was affected by a much higher rate of erroneous enumeration (overcount) than had been anticipated. Erroneous enumerations were more likely to occur for certain demographic groups and in certain living situations (e.g. college students and nursing home residents).

Coverage interviews in the decennial censuses traditionally involve a second interview with the respondent to determine if changes should be made to their household roster as reported on their initial census return. The questions in the CFU interview attempt to determine if people were missed, and/or incorrectly counted. When a person is identified as potentially counted or omitted in error, the Census Bureau will then ask questions to establish the appropriate census residence of that person according to our residence rule in effect for the 2010 Census (the 2010 residence rule will be available pending approval).

The 2010 CFU telephone operation will be conducted using computer-assisted telephone interviews (CATI) in commercial call centers throughout the country from April 26, 2010 through August 13, 2010. Approximately 8,010,000 households will be selected for CFU, based on established criteria.

The Census Bureau will contact respondents using telephone numbers provided by respondents on the initial census questionnaire. The CATI instrument will be in both English and Spanish (interviewers will have job aids for the additional four languages—Chinese, Vietnamese, Korean, and Russian). The Census Bureau will not conduct field interviews during this operation, so when telephone interviews are unsuccessful, the case will be classified as a non-interview.

Affected Public: Individuals or households.

Frequency: One time.

Respondent's Obligation: Mandatory.

Legal Authority: Title 13, United States Code, Section 141.

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: May 14, 2009.
Glenna Mickelson,
Management Analyst, Office of the Chief Information Officer.

[FR Doc. E9-11649 Filed 5-19-09; 8:45 am]

BILLING CODE 3510-07-P